COMMISSION ON CIVIL RIGHTS

Agency Information Collection Activities; Comment Request

ACTION: Request for OMB emergency approval.

The U.S. Commission on Civil Rights, Office of Civil Rights Evaluation has submitted an emergency information collection request (ICR) utilizing emergency review procedures, to the Office of Management and Budget (OMB) for review and clearance in accordance with section 1320.13(a)(1)(ii) and (a)(2)(iii) of the Paperwork Reduction Act of 1995. The Office of Civil Rights Evaluation has determined that it cannot reasonably comply with the normal clearance procedures under this part because normal clearance procedures are reasonably likely to prevent or disrupt the collection of information. Therefore, OMB approval has been requested by February 25, 2000. If granted, the emergency approval is only valid until September 30, 2000. All comments and/or questions pertaining to this pending request and emergency approval MUST be directed to OMB, Office of Information and Regulatory Affairs, Attention: Mr. Stuart Shapiro 202-395-7316, Commission on Civil Rights Desk Officer, Washington, DC 20503, before February 25, 2000. Comments regarding the emergency submission of this information collection may also be submitted via facsimile to Mr. Shapiro at 202-395-6784.

During the first 40 days of this same period, a regular review of this information collection is also being undertaken. During the regular review period, the Commission on Civil Rights requests written comments and suggestions from the public and affected agencies concerning this information collection. Comments are encouraged and will be accepted until April 5, 2000. During the 40-day regular review, ALL comments and suggestions, or questions regarding additional information, to include obtaining a copy of the information collection instrument with instructions, should be directed to Mireille Zieseniss, 202-376-6243, Civil Rights Analyst, Office of Civil Rights Evaluation, U.S. Commission on Civil Rights, 624 Ninth Street, NW, Suite 740, Washington, DC 20425. Written comments and suggestions from the public and affected agencies concerning the proposed collection of information should address one or more of the following four points:

1. Whether the proposed collection of information is necessary for the proper performance of the functions of the agency, including whether the information will have practical utility;

2. The accuracy of the agency's estimate of the burden of the proposed collection of information, including the validity of the methodology and assumptions used;

3. The quality, utility, and clarity of the information to be collected; and

4. The burden of the collection of information on this who are to respond, including through the use of appropriate automated, electronic, mechanical or other technological collection techniques or other forms of information technology, e.g., permitting electronic submission of responses.

Overview of This Information Collection

1. Type of Information Collection: New, one-time collection.

2. Title of the Form/Collection: U.S. Commission on Civil Rights Survey of Actual and Alleged Victims of Employment Discrimination.

3. Agency form number, if any, and the applicable component of the U.S. Commission sponsoring the collection: No agency form number exists. Component: Office of Civil Rights Evaluation.

4. Affected public who will be asked or required to respond, as well as a brief abstract: Primary: private individuals who have contacted the EEOC to allege employment discrimination within the last five years. This survey will be used for the purpose of learning how certain protected groups are affected by employment discrimination, and how the EEOC enforces laws protecting these groups.

5. Estimate the total number of respondents and the amount of time estimated for an average respondent to respond: 905 respondents at 1 hour per response.

6. An estimate of the total public burden (in hours) associated with the collection: 905 hours.

CONTACT PERSON FOR FURTHER INFORMATION: Mireille Zieseniss, Civil Rights Analyst, Office of Civil Rights Evaluations, U.S. Commission on Civil Rights, 624 Ninth Street, NW, Suite 740, Washington, DC 20425.

Edward A. Hailes, Jr.,
Acting Solicitor.

[FR Doc. 00-3712 Filed 2-15-00; 8:45 am]

BILLING CODE 6335-01-M